DEPARTMENT OF DEFENSE

Office of the Secretary

[Docket ID: DoD-2024-HA-0055]

Submission for OMB Review; Comment Request

AGENCY: Office of the Assistant Secretary of Defense for Health Affairs (OASD(HA)), Department of Defense (DoD).

ACTION: 30-Day information collection notice.

SUMMARY: The DoD has submitted to the Office of Management and Budget (OMB) for clearance the following proposal for collection of information under the provisions of the Paperwork Reduction Act.

DATES: Consideration will be given to all comments received by January 15, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Safety Culture, Operational Reliability, Resilience/Burnout, and Engagement (SCORE™) Survey; OMB Control Number 0720-SCOR.

Type of Request: New.

Number of Respondents: 6,873.

Responses per Respondent: 1.

Annual Responses: 6,873.

Average Burden per Response: 15 minutes.

Annual Burden Hours: 1,718.

Needs and Uses: The 2001 National Defense Authorization Act (NDAA) addresses patient safety in military and veteran's healthcare and requires an examination of systemic factors which lead to medical error. The SCORE™ [Safety Culture, Operational Reliability, Resilience/Burnout, and Engagement] Survey, a validated commercial assessment tool for patient safety that engages all levels of staff from executive leaders to frontline teams, is a response to this legislation. The SCORE™ is conducted across Defense Health Network National Capital Region (DHN NCR) military medical treatment facilities to provide data necessary for driving cultural change.

Affected Public: Federal government; individuals or households.

Frequency: As required.

Respondent's Obligation: Voluntary.

DOD Clearance Officer: Mr. Reginald Lucas.

Dated: December 11, 2024.
Aaron T. Siegel,
Alternate OSD Federal Register Liaison Officer, Department of Defense.

[FR Doc. 2024-29592 Filed 12-13-24; 8:45 am]

BILLING CODE 6001-FR-P